DEPARTMENT OF COMMERCE

International Trade Administration

[A-588-837, A-428-821]

Large Newspaper Printing Presses and Components Thereof, Whether Assembled or Unassembled, from Japan (A-588-837) and Germany (A-428-821): Notice of Final Results of Five-Year Sunset Reviews and Revocation of Antidumping Duty Orders.

AGENCY: Import Administration, International Trade Administration, Department of Commerce.

ACTION: Notice of final results of five-year sunset reviews and revocation of antidumping duty orders on large newspaper printing presses and components thereof, whether assembled or unassembled, from Japan (A-588-837) and Germany (A-428-821).

SUMMARY: On August 1, 2001, the Department of Commerce (“the Department”) initiated sunset reviews of the antidumping duty orders on Large Newspaper Printing Presses (“LNPPs”) and Components Thereof, Whether Assembled or Unassembled, from Japan and Germany. One domestic interested party responded to the sunset review notice of initiation in these proceedings. However, on December 21, 2001, the domestic interested party withdrew its interest in these proceedings. Therefore, the Department is revoking the antidumping duty orders on LNPPs from Japan and Germany.

EFFECTIVE DATE: September 4, 2001.

FOR FURTHER INFORMATION CONTACT: Martha V. Douthit or James P. Maeder, Office of Policy, Import Administration, International Trade Administration, U.S. Department of Commerce, 14th Street and Constitution Avenue, NW., Washington, DC 20230; telephone: (202) 482-5050 or (202) 482-3330, respectively.

SUPPLEMENTARY INFORMATION:

The Applicable Statue

Unless otherwise indicated, all citations to the Tariff Act of 1930, as amended (the “Act”), are references to the provisions effective January 1, 1995, the effective date of the amendments made to the Act by the Uruguay Round Agreements Act. In addition, unless otherwise indicated, all citations to the Department of Commerce's (“Department”) regulations are to 19 CFR part 351 (2001).

Background

On September 4, 1996, the Department issued the antidumping duty orders on LNPPs from Japan (61 FR 46621) and Germany (61 FR 46623). Pursuant to section 751(c) of the Act and 19 CFR 351.218, the Department initiated sunset reviews of these orders by publishing a notice of the initiation in the Federal Register August 1, 2001 (66 FR 39731). In addition, as a courtesy to interested parties, the Department sent letters, via certified and registered mail, to each party listed on the Department's most current service list for this proceeding to inform them of the automatic initiation of sunset reviews of these orders.

On August 16, 2001, within the applicable deadline, the Department received notice of intent to participate from Goss Graphic Systems, Inc. (“Goss”), the only domestic interested party in the sunset proceedings. As such, the Department concluded that Goss provided an adequate response to participate in the sunset reviews on LNPPs from Japan and Germany. On August 31, 2001, Goss filed substantive responses with respect to LNPPs from Japan and Germany. In the sunset review on LNPPs from Japan, the Department did not receive any response from respondent interested parties; therefore, we determined to conduct an expedited sunset review. In the sunset review on LNPPs from Germany, the Department determined that domestic and respondent interested parties provided adequate response to conduct a full sunset review under section 751(c)(3)(B) of the Act, and §§ 351.218(e)(1)(i) and 351.218(e)(1)(ii). However, over the course of these reviews significant questions were raised concerning Goss' claim as to whether it was actually a domestic manufacturer of the subject merchandise. Consequently, in order to investigate this issue more fully, on November 19, 2001, the Department aligned the sunset review on LNPPs from Japan with the sunset review of the antidumping duty order on LNPPs from Germany. See 66 FR 58713 (November 23, 2001).¹ On December 21, 2001, Goss withdrew its participation in these proceedings. We interpret Goss' withdrawal of participation as a withdrawal of interest. Because Goss (the only domestic interested party in the sunset proceeding) withdrew its interest in these reviews, the Department has determined to treat this situation as if no domestic interested party responded to the notice of initiation of these sunset reviews. Therefore, we are not publishing preliminary determinations and are hereby revoking the antidumping duty orders on LNPPs from Japan and Germany.

¹ In this notice, the Department announced its intent to issue the preliminary results on LNPPs from Japan along with the preliminary results on LNPPs from Germany not later than February 19, 2002, and its final results on both reviews on June 27, 2002.

Determination to Revoke

Pursuant to section 751(c)(3)(A) of the Act and 19 CFR 351.218(d)(1)(iii)(B)(3), if no domestic interested party responds to the notice of initiation, the Department shall issue a final determination, within 90 days after the initiation of the review, revoking the order.² Because the only domestic interested party withdrew its interest in both proceedings (see 351.218(d)(1)(i) and 351.218(e)(1)(i)(C)(1) of the Sunset Regulations), consistent with the provision of section 751(c)(3)(A) of the Act, we are revoking these antidumping duty orders.

² Although the statute requires revocation of an order within 90 days of initiating the sunset review when no party responds to the notice of initiation, in this case, Goss withdrew its participation after the 90-day period had expired.

Effective Date of Revocation

In accordance with sections 751(c)(3)(A) and 751(d)(2) of the Act, and 19 CFR 351.222(i)(2)(i), the Department will instruct the Customs Service to terminate the suspension of liquidation of the merchandise subject to the orders entered, or withdrawn from warehouse, on or after September 4, 2001. The instructions for entries of LNPPs from Germany will not be issued until either the conclusion of the ongoing litigation with respect to the final determination of the Department's less-than-fair value investigation of LNPPs from Germany, pursuant to which entries have been enjoined from liquidation, or the injunction has been lifted or amended. (See Koenig & Bauer Albert v. United States, Fed. Cir. Court No. 00-1387 (CIT 96-10-02298).) This injunction does not cover entries of subject merchandise from Japan. Entries of subject merchandise prior to the effective date of revocation will continue to be subject to suspension of liquidation and antidumping duty deposit requirements. The Department will complete any pending administrative reviews of these orders and will conduct administrative reviews of subject merchandise entered prior to the effective date of revocation in response to appropriately filed requests for review.

Dated: February 19, 2002.
Faryar Shirzad,
Assistant Secretary for Import Administration.

[FR Doc. 02-4426 Filed 2-22-02; 8:45 am]

BILLING CODE 3510-DS-P